DEPARTMENT OF TRANSPORTATION

Federal Highway Administration

Notice of Final Federal Agency Actions on Proposed Highway in Texas

AGENCY: Federal Highway Administration (FHWA), DOT.

ACTION: Notice of limitation on claims for judicial review of actions by FHWA and other Federal Agencies.

SUMMARY: This notice announces actions taken by the FHWA and other Federal agencies that are final within the meaning of 23 U.S.C. 139(l)(1). The actions relate to a proposed highway project, Loop 567 from Farm to Market Road (FM) 51 to Business Route (BU) 377H in Hood County, Texas. Those actions grant licenses, permits and approvals for the project.

DATES: By this notice, the FHWA is advising the public of final agency actions subject to 23 U.S.C. 139(l)(1). A claim seeking judicial review of the Federal agency actions on the highway project will be barred unless the claim is filed on or before February 14, 2011. If the Federal law that authorizes judicial review of a claim provides a time period of less than 180 days for filing such claim, then that shorter time period still applies.

FOR FURTHER INFORMATION CONTACT: Mr. Salvador Deocampo. District Engineer, Texas Division, FHWA, 300 East 8th Street, Room 826, Austin, Texas 78701; phone number (512) 536-5950; e-mail: salvador.deocampo@dot.gov; FHWA Texas Division normal business hours are 8 a.m. to 5 p.m. (central time) Monday through Friday. You may also contact Ms. Dianna Noble, P.E., Director Environmental Affairs Division, Texas Department of Transportation, 118 E. Riverside, Austin, Texas 78704; phone number (512) 416-2734.

SUPPLEMENTARY INFORMATION: Notice is hereby given that the FHWA and other Federal agencies have taken final agency actions by issuing licenses, permits, and approvals for the following highway project in the State of Texas: Loop 567 from FM 51 to BU 377H in Hood County, Texas. The project will include the construction of a 2.4 mile long highway that will be constructed in two phases. The interim phase will provide two travel lanes, and the ultimate phase will provide four travel lanes. The project will provide an alternate route to northern portions of Hood County without requiring traffic to traverse historic downtown Granbury. The project will use approximately 0.75 miles of the existing Stockton Bend Road, and the remaining section of roadway (1.65 miles) will be on a new location. The actions by the Federal agencies, and the laws under which such actions were taken, are described in the June 2010 Environmental Assessment (EA) for the project, in the FHWA Finding of No Significant Impact (FONSI) issued on August 3, 2010, and in other documents in the FHWA administrative record. The EA, FONSI, and other documents in the FHWA administrative record are available by contacting the FHWA or the Texas Department of Transportation at the addresses provided above.

This notice applies to all Federal agency decisions as of the issuance date of this notice and all laws under which such actions were taken, including but not limited to:

I. General: National Environmental Policy Act [42 U.S.C. 4321-4351]; Federal-Aid Highway Act [23 U.S.C. 109].

II. Air: Clean Air Act [42 U.S.C. 7401-7671(q)].

III. Land: Section 4(f) of the Department of Transportation Act of 1966 [49 U.S.C. 303].

IV. Wildlife: Endangered Species Act [16 U.S.C. 1531-1544 and Section 1536], Migratory Bird Treaty Act [16 U.S.C. 703-712].

V. Historic and Cultural Resources: Section 106 of the National Historic Preservation Act of 1966, as amended [16 U.S.C. 470(f) et seq.]; Archeological Resources Protection Act of 1977 [16 U.S.C. 470(aa)-l1]; Archeological and Historic Preservation Act [16 U.S.C. 469-469(c)].

VI. Social and Economic: Civil Rights Act of 1964 [42 U.S.C. 2000(d)-2000(d)(1)].

VII. Wetlands and Water Resources: Clean Water Act, 33 U.S.C. 1251-1377 (Section 404, Section 401, Section 402, Section 319); Rivers and Harbors Act of 1899 [33 U.S.C. 401-406].

VIII. Executive Orders: E.O. 11990 Protection of Wetlands; E.O. 11988 Floodplain Management; E.O. 12898, Federal Actions to Address Environmental Justice in Minority Populations and Low Income Populations; E.O. 11593 Protection and Enhancement of Cultural Resources; E.O. 13175 Consultation and Coordination with Indian Tribal Government; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(l).

Issued on: August 9, 2010.
Salvador Deocampo,
District Engineer, Austin, Texas.

[FR Doc. 2010-20218 Filed 8-17-10; 8:45 am]

BILLING CODE 4910-RY-M